DEPARTMENT OF ENERGY

Federal Energy Regulatory Commission

Combined Notice of Filings

Take notice that the Commission has received the following Natural Gas Pipeline Rate and Refund Report filings:

Filings Instituting Proceedings

Docket Numbers: RP16-1000-000.

Applicants: Columbia Gas Transmission, LLC.

Description: § 4(d) Rate Filing: Negotiated & Non-Conforming Service Agreement—Kentucky Power to be effective 6/1/2016.

Filed Date: 5/31/16.

Accession Number: 20160531-5595.

Comments Due: 5 p.m. ET 6/13/16.

Docket Numbers: RP16-1001-000.

Applicants: Discovery Gas Transmission LLC.

Description: § 4(d) Rate Filing: 2016 FL&U Submittal to be effective 7/1/2016.

Filed Date: 5/31/16.

Accession Number: 20160531-5604.

Comments Due: 5 p.m. ET 6/13/16.

Docket Numbers: RP16-1002-000.

Applicants: Algonquin Gas Transmission, LLC.

Description: § 4(d) Rate Filing: Non-Conforming Agreements—Colonial 510025 and Narragansett 510075 to be effective 6/1/2016.

Filed Date: 5/31/16.

Accession Number: 20160531-5614.

Comments Due: 5 p.m. ET 6/13/16.

Docket Numbers: RP16-1003-000.

Applicants: Algonquin Gas Transmission, LLC.

Description: § 4(d) Rate Filing: Non-Conforming Agreement—Narragansett 510209 to be effective 6/1/2016.

Filed Date: 6/1/16.

Accession Number: 20160601-5124.

Comments Due: 5 p.m. ET 6/13/16.

Docket Numbers: RP16-1004-000.

Applicants: Gulf South Pipeline Company, LP.

Description: § 4(d) Rate Filing: Cap Rel Neg Rate Agmt (QEP 37657 to Trans LA 46521) to be effective 6/2/2016.

Filed Date: 6/1/16.

Accession Number: 20160601-5181.

Comments Due: 5 p.m. ET 6/13/16.

Docket Numbers: RP16-1005-000.

Applicants: Equitrans, L.P.

Description: § 4(d) Rate Filing: Negotiated Capacity Release Agreements—6/01/2016 to be effective 6/1/2016.

Filed Date: 6/1/16.

Accession Number: 20160601-5227.

Comments Due: 5 p.m. ET 6/13/16.

Docket Numbers: RP16-1006-000.

Applicants: Columbia Gas Transmission, LLC.

Description: § 4(d) Rate Filing: GEH—Multi-Party Contracts to be effective 7/1/2016.

Filed Date: 6/1/16.

Accession Number: 20160601-5289.

Comments Due: 5 p.m. ET 6/13/16.

Docket Numbers: RP16-1007-000.

Applicants: Columbia Gulf Transmission, LLC.

Description: § 4(d) Rate Filing: GEH—Multi-Party Contracts to be effective 7/1/2016.

Filed Date: 6/1/16.

Accession Number: 20160601-5290.

Comments Due: 5 p.m. ET 6/13/16.

Docket Numbers: RP16-1008-000.

Applicants: UGI Sunbury, LLC.

Description: Compliance Tariff Filing [of Pro Forma tariff sheets—CP15-525] and Request for Waiver of UGI Sunbury, LLC.

Filed Date: 5/31/16.

Accession Number: 20160531-5736.

Comments Due: 5 p.m. ET 6/13/16.

Docket Numbers: RP16-1009-000.

Applicants: Crossroads Pipeline Company.

Description: § 4(d) Rate Filing: GEH—Multi-Party Contracts to be effective 7/1/2016.

Filed Date: 6/1/16.

Accession Number: 20160601-5293.

Comments Due: 5 p.m. ET 6/13/16.

Docket Numbers: RP16-1010-000.

Applicants: Central Kentucky Transmission Company.

Description: § 4(d) Rate Filing: GEH—Multi-Party Contracts to be effective 7/1/2016.

Filed Date: 6/1/16.

Accession Number: 20160601-5300.

Comments Due: 5 p.m. ET 6/13/16.

Docket Numbers: RP16-1011-000.

Applicants: Millennium Pipeline Company, LLC.

Description: § 4(d) Rate Filing: Operational Sales at Pool Filing to be effective 7/1/2016.

Filed Date: 6/1/16.

Accession Number: 20160601-5301.

Comments Due: 5 p.m. ET 6/13/16.

Docket Numbers: RP16-1012-000.

Applicants: Rockies Express Pipeline LLC.

Description: § 4(d) Rate Filing: Neg Rate 2016-06-01 Perm Partial BP to be effective 6/1/2016.

Filed Date: 6/1/16.

Accession Number: 20160601-5338.

Comments Due: 5 p.m. ET 6/13/16.

Docket Numbers: RP16-1013-000.

Applicants: MarkWest Pioneer, L.L.C.

Description: Quarterly Fuel Adjustment Filing of MarkWest Pioneer, L.L.C. under RP16-1013.

Filed Date: 6/1/16.

Accession Number: 20160601-5391.

Comments Due: 5 p.m. ET 6/13/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-549-002.

Applicants: PGPipeline LLC.

Description: Compliance filing NAESB 3.0 Compliance Filing to be effective 4/1/2016.

Filed Date: 5/31/16.

Accession Number: 20160531-5607.

Comments Due: 5 p.m. ET 6/13/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 6, 2016.
Nathaniel J. Davis, Sr.,
Deputy Secretary.

[FR Doc. 2016-13897 Filed 6-10-16; 8:45 am]

BILLING CODE 6717-01-P